DEPARTMENT OF AGRICULTURE

Food Safety and Inspection Service

[Docket No. 01-020N]

Applied Epidemiology and Other Vital Public Health Tools To Inform Food Safety Actions

AGENCY: Food Safety and Inspection Service, USDA.

ACTION: Notice of public meeting; request for comments.

SUMMARY: The Food Safety and Inspection Service (FSIS) is announcing that it will hold a two-day public meeting on the use of epidemiological data, principles, and techniques, and other public health tools to help the Agency achieve its public health goals. The Agency will describe its use of epidemiology and other public health tools in outbreak investigations and in in-plant environmental assessments, present hypothetical scenarios, and invite discussion and comment on its approach. This meeting is intended to be the first in a series of meetings that will aid FSIS in developing a framework for how the Agency will conduct public health investigations, and how it will integrate the scientific principles of applied epidemiology into its food safety activities. The long-term goal is to arrive at a consensus on how and when these tools should be used.

DATES: The public meeting is scheduled for January 29 and 30, 2002. The meeting will be from 8:30 a.m. to approximately 4 p.m. each day. A tentative agenda is available in the FSIS Docket Room and on the FSIS website at http://fsis.usda.gov.

ADDRESSES: The meeting will be held at the Holiday Inn Select Atlanta/Decatur, 130 Clairemont Avenue in Decatur, GA; telephone (404) 371-0204. FSIS welcomes comments on the topics to be discussed at the public meeting. Please send an original and two copies of comments to the FSIS Docket Clerk, Docket #01-020N, 102 Cotton Annex, Washington, DC 20250-3700. All comments and the official transcript, when it becomes available, will be kept in the FSIS Docket Room at the above address.

FOR FURTHER INFORMATION CONTACT: Mr. Charles Gioglio at (202) 205-0256. Registration for the meeting will be on-site. If a sign language interpreter or other special accommodation is necessary, contact Ms. Mary Harris as soon as possible at (202) 690-6497.

SUPPLEMENTARY INFORMATION:

Background

FSIS administers the Federal Meat Inspection Act, the Poultry Products Inspection Act, and the Egg Products Inspection Act. The Agency's activities are intended to prevent the distribution in domestic or foreign commerce, as human food, of unwholesome, adulterated, or misbranded meat, poultry, and egg products, including products that may transmit diseases or that may be otherwise injurious to health.

In recent years, the Agency has placed increased emphasis on its public health protection role. Throughout the 1990's, the Agency's most important goal was an improved food safety inspection system, exemplified by the Pathogen Reduction/Hazard Analysis and Critical Control Point (PR/HACCP) regulations which are now fully implemented. FSIS has consistently sought to enhance the public health by minimizing foodborne illness from meat, poultry, and egg products. The Agency has worked toward achieving this goal by implementing measures intended to reduce pathogens on raw products, by strengthening relationships with public health agencies at the Federal and State levels, by making food safety information and training available to people at every point in the food production and marketing chain, and by promoting international cooperation in food safety.

The Agency's Strategic Plan for 2000-2005 proposes that FSIS continue to focus its operations and resources on food safety and continue to strengthen the scientific basis for its regulatory activities and initiatives.

FSIS would like the views, suggestions, and comments of all of its food safety constituencies, including the general public, on the approaches it has been using, and on how it should continue to use applied epidemiology and other public health tools to achieve its mission. For many years, FSIS has used epidemiology and other methods as tools in tracking the source of outbreaks of foodborne illness. On several occasions, FSIS has based a recall request or a regulatory action on epidemiological data that indicated that product from a particular establishment is adulterated, but without a positive laboratory finding. Recent improvements in the technology of outbreak investigation and genetic fingerprinting of pathogens from persons and food products have resulted in significant changes. It is now possible to identify otherwise unrecognized outbreaks and to provide substantive evidence to link products to illnesses. The Agency has begun using the techniques of epidemiology during in-plant assessments to help identify the source of on-going plant contamination.

Public Meeting

At the public meeting, FSIS officials will discuss the use of applied epidemiology and other public health tools in foodborne illness outbreak investigations and their application to in-plant assessments and regulatory decisions, including whether to request a recall of FSIS regulated products. The first day of the meeting will focus on foodborne illness outbreaks; the second day will focus on in-plant applications of epidemiological principles and approaches and other tools. During the meeting, FSIS officials will discuss the Agency's public health approach to foodborne illness outbreaks and in-plant assessments. FSIS officials will discuss the role of epidemiology and other public health tools in outbreak investigations and recall decisions, and the use of epidemiological data, principles, and investigative and other techniques in conducting in-plant environmental assessments to prevent foodborne illness. The Agency also will present its current thinking on approaches that integrate epidemiological principles and techniques into inspection methods and activities. Hypothetical scenarios based on recent cases of foodborne illnesses and in-plant contamination will be presented by Agency personnel to discussion panels of food safety experts. Finally, the Agency will open the discussion to include, and solicit comment from, the attendees. FSIS believes that this type of public process will assist it in achieving its goals and will enhance the understanding of the public health community.

Additional Public Information

Public awareness of all segments of policy development is important. Consequently, in an effort to better ensure that minorities, women, and persons with disabilities are aware of this public meeting, FSIS will announce it and provide copies of this Federal Register publication in the FSIS Constituent Update. FSIS provides a weekly FSIS Constituent Update, which is communicated via fax to over 300 organizations and individuals. In addition, the update is available on line through the FSIS web page located at http://www.fsis.usda.gov. The update is used to provide information on FSIS policies, procedures, regulations, Federal Register notices, FSIS public meetings, recalls, and any other types of information that could affect or would be of interest to our constituents/stakeholders. The constituent fax list consists of industry, trade, and farm groups, consumer interest groups, allied health professionals, scientific professionals, and others that have requested to be included. Through these various channels, FSIS is able to provide information to a much broader, more diverse audience. For more information and to be added to the constituent fax list, fax your request to the Congressional and Public Affairs Office, at (202) 720-5704.

Done at Washington, DC on: January 17, 2002.
Margaret O'K. Glavin,
Acting Administrator.

[FR Doc. 02-1750 Filed 1-23-02; 8:45 am]

BILLING CODE 3410-DM-P